DEPARTMENT OF ENERGY

Office of Energy Efficiency and Renewable Energy

Call for U.S.-China Energy Performance Contracting Pilot Projects To Be Recognized at the 7th Annual U.S.-China Energy Efficiency Forum

AGENCY: Office of Energy Efficiency and Renewable Energy, Department of Energy (DOE).

ACTION: Notice of extension for project submissions.

SUMMARY: The Department of Energy (DOE) gives notice of an extension from August 22, 2016 to September 9, 2016 to submit innovative U.S.-China energy performance contracting (EPC) projects. EPC projects at public, commercial, and industrial facilities located in the U.S. or China with project participation from at least one U.S. entity and at least one Chinese entity are eligible. Eligible entities include energy service companies (ESCOs), technology providers, facility owners or operators, and financiers. EPC projects that meet the 2016 Pilot Project Criteria and demonstrate replicability will receive special recognition at the 7th Annual U.S.-China Energy Efficiency Forum in October 2016 in Beijing. Some recognition recipients will be invited to speak at a special breakout session.

DATES: Project submissions for consideration must be received by September 9, 2016.

ADDRESSES: Project submissions should be emailed in English and Chinese to the Pacific Northwest National Laboratory and ESCO Committee of China Energy Conservation Association at the email addresses provided below. “The Pilot Project Criteria 2016” and “Appendix: Project Submission Template” can be found on: http://www.globalchange.umd.edu/archived-research-areas/energy-efficiency-and-mitigation/epc/.

Applicants must complete the Chinese and English project submission template and draft a proposed MOU. The proposed MOU should memorialize the cooperation of U.S. and Chinese entities applying as a team, set out their intention to do an EPC project(s); and include all minimum U.S.-China EPC Pilot Project Program requirements. Submit one email with project submission and proposed MOU as attachments to the following email addresses: m.evans@pnnl.gov, qing.tan@pnnl.gov and international@emca.cn. Failure to submit complete, bilingual project information may result in ineligibility.

FOR FURTHER INFORMATION CONTACT:

Questions about the U.S.-China Energy Performance Contracting Initiative—Ms. Arlene Fetizanan, U.S. Department of Energy, Arlene.Fetizanan@ee.doe.gov or (202) 586-3124.

Questions about the energy performance contracting pilot project criteria and submission—Ms. Sha Yu, Pacific Northwest National Laboratory, sha.yu@pnnl.gov or (301) 314-6736.

SUPPLEMENTARY INFORMATION: On July 29, 2016, DOE published in the Federal Register a notice of a request for project submissions (the July Notice) entitled Call For U.S.-China Energy Performance Contracting Pilot Projects To Be Recognized At The Annual U.S.-China Energy Efficiency Forum (81 FR 49968). That notice required innovative U.S.- China EPC project submissions for consideration to be submitted by August 22, 2016. This notice announces an extension of that deadline from August 22, 2016 to September 9, 2016. For background information on the U.S. China Climate Working Group and requirements for U.S.-China EPC project submissions, see the July Notice.

Issued in Washington, DC, on August 15, 2016.
Robert Dixon,
Director of Strategic Programs, Office of Energy Efficiency and Renewable Energy.

[FR Doc. 2016-20101 Filed 8-22-16; 8:45 am]

BILLING CODE 6450-01-P